CONSUMER PRODUCT SAFETY COMMISSION

Petition HP 01-3 Requesting a Ban on Use of Chromated-Copper-Arsenate (CCA) Treated Wood in Playground Equipment

AGENCY: Consumer Product Safety Commission.

ACTION: Notice.

SUMMARY: The Commission has received a submission that contains a request that the Commission ban use of chromated-copper-arsenate (CCA) treated wood in playground equipment. This request has been docketed as petition under number HP 01-3 under the Federal Hazardous Substances Act (FHSA). The Commission solicits written comments concerning the petition.

DATES: The Office of the Secretary must receive comments on the petition by September 11, 2001.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by facsimile to (301) 504-0127 or by e-mail to cpsc-os@cpsc.gov. Comments should be captioned “Petition HP 01-3, Petition for Ban on Use of CCA Treated Wood in Playground Equipment.” A copy of the petition is available for inspection at the Commission's Public Reading Room, Room 419, 4330 East-West Highway, Bethesda, Maryland.

FOR FURTHER INFORMATION CONTACT: Rockelle Hammond, Office of the Secretary, Consumer Product Safety Commission, Washington, D.C. 20207; telephone (301) 504-0800, ext. 1232.

SUPPLEMENTARY INFORMATION: The Commission has received correspondence from the Environmental Working Group (EWG) and the Healthy Building Network (HBN) requesting that it issue a ban on use of chromated-copper-arsenate (CCA) treated wood in playground equipment. The petitioners assert that a ban is necessary because “[r]ecent research has shown that arsenic is more carcinogenic than previously recognized, that arsenic is present at significant concentrations on CCA-treated wood and in underlying soil, that the health risks posed by this wood are greater than previously recognized, and that past risk assessments were incomplete.”

The Commission is docketing the request for a ban as a petition under provisions of the Federal Hazardous Substances Act (FHSA), 15 U.S.C. 1261-1278.

The submission also requests that the Commission review the safety of CCA-treated wood for general use. This request has not been docketed as part of the petition because this action does not require rulemaking. (The request for a review will be considered separately by the CPSC's Office of Hazard Identification and Reduction.)

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: July 9, 2001.
Todd A. Stevenson,
Acting Secretary, Consumer Product Safety Commission.

[FR Doc. 01-17501 Filed 7-12-01; 8:45 am]

BILLING CODE 6355-01-P